DEPARTMENT OF DEFENSE

Department of the Army; Corps of Engineers

Notice of Availability of the Draft Environmental Impact Statement/Section 404 Permit Application for the Southern Beltway Transportation Project From I-79 to the Mon/Fayette Expressway, Washington County, PA

AGENCY: U.S. Army Corps of Engineers, DoD.

ACTION: Notice of Availability.

SUMMARY: The U.S. Army Corps of Engineers, in cooperation with the Pennsylvania Turnpike Commission and the U.S. Environmental Protection Agency, as a Cooperating Agency, have prepared a Draft Environmental Impact Statement/Section 404 Permit Application (DEIS) for the Southern Beltway Transportation Project from I-79 to the Mon/Fayette Expressway in Washington County, PA. The overall purpose of the project is to provide transportation mobility safety improvements, to relieve congestion, and to support economic development plans in southwestern Pennsylvania. The DEIS assesses the environmental effects of the various alternatives developed to address the project needs.

DATES: Comments concerning this DEIS should be submitted by February 8, 2008.

ADDRESSES: Submit written comments to Scott A. Hans, Acting Chief, Regulatory Branch, U.S. Army Corps of Engineers, Pittsburgh District, Moorhead Federal Building, 1000 Liberty Avenue, Pittsburgh, PA 15222-4186 or to David P. Willis, Environmental Manager, Pennsylvania Turnpike Commission, P.O. Box 67676, Harrisburg, PA 17106.

FOR FURTHER INFORMATION CONTACT: Questions or comments regarding the DEIS should be directed to Mr. John S. Weres, Project Manager, at SAI Consulting Engineers, Inc., 1350 Penn Avenue, Pittsburgh, PA 15222 (412-392-8750).

SUPPLEMENTARY INFORMATION:

1. Authorization: The U.S. Army Corps of Engineers, Pittsburgh District, Regulatory Branch is considering an application from the Pennsylvania Turnpike Commission, 700 South Eisenhower Boulevard, P.O. Box 67676, Harrisburg, PA 17106-7676 under section 404 of the Clean Water Act to construct the Proposed Action. The primary Federal concern is the discharge of fill materials (including permanent inundation) within waters of the United States, and potential impacts on the human environment from such activities. The Corps' decision will be to either issue or deny a Department of the Army permit for the Proposed Action.

The DEIS has been prepared in accordance with the National Environmental Policy Act of 1969 (NEPA), pursuant to 42 U.S.C. 4332(2)(c) and Executive Order 11990; and with other appropriate federal laws and regulations, policies, and procedures of the Corps for compliance with those regulations.

2. Scoping Process: The Pennsylvania Turnpike Commission has held a series of Public Plans Displays and Public Meetings in the project area during the past several years, including a series of three meetings in August 2005 to present the alternatives developed in detail in the DEIS. The U.S. Army Corps of Engineers (Corps) published a Notice of Intent (NOI) in the Federal Register on October 23, 2007 (FR Doc. E7-20812).

3. Public Hearing. A formal public hearing to receive comments on the DEIS will be held by the Army Corps of Engineers and the Pennsylvania Turnpike Commission on Thursday, January 24, 2008. The location and time for the public hearing is as follows:

• Canon-McMillan Senior High School, Elm Street Extension, Canonsburg, PA 15317. An open house plans presentation will be conducted from 5 p.m. to 9 p.m. The formal presentation will be conducted at 6 p.m.

The public hearing will be announced in the local news media, and separate notice will also be sent to all parties on the project mailing list and to property owners adjacent to the Recommended Preferred Alternative. Participation by all interested individuals, groups or agencies is encouraged.

The public review period will conclude on February 8, 2008, more than 45 days after publication of this notice. The U.S. Army Corps of Engineers and the Pennsylvania Turnpike Commission will consider concerns expressed on the DEIS, and such issues will be incorporated into the Final EIS as appropriate. Comments, suggestions, and requests to be placed on the mailing list for announcements and for the Final EIS, should also be sent to Mr. Hans or Mr. Willis.

4. Availability of the Draft EIS: The Draft EIS and appendices are available for review and downloading from the Pennsylvania Turnpike Commission's project Web site at the following address: http://www.paturnpike.com/monfaySB/. Copies of the DEIS are available for public review at local municipal offices and public libraries in the project area. Copies of the technical support data and all documents referenced in the DEIS are available for public review by appointment at the Pittsburgh office of SAI Consulting Engineers, Inc., 1350 Penn Avenue, Pittsburgh, PA 15222. Please contact Mr. John Weres at (412) 392-8750 to set up an appointment. Please note that only qualified individuals will be allowed to review the confidential cultural resources appendices. Additional information on the project and availability of the DEIS can also be found in the Corps' Public notice at the following link: http://www.lrp.usace.army.mil/or/or-f/07-59.pdf.

Scott A. Hans,
Acting Chief, Regulatory Branch, Pittsburgh District—U.S. Army Corps of Engineers.

[FR Doc. E7-24446 Filed 12-17-07; 8:45 am]

BILLING CODE 3710-85-P